DEPARTMENT OF COMMERCE

National Oceanic and Atmospheric Administration

RIN 0648-XC268

Marine Mammals; File No. 16239

AGENCY: National Marine Fisheries Service (NMFS), National Oceanic and Atmospheric Administration (NOAA), Commerce.

ACTION: Notice; receipt of application for permit amendment.

SUMMARY: Notice is hereby given that Dan Engelhaupt, Ph.D., HDR EOC, 5700 Lake Wright Drive, Norfolk, VA 23502-1859, has applied for an amendment to Scientific Research Permit No. 16239.

DATES: Written, telefaxed, or email comments must be received on or before September 28, 2015.

ADDRESSES: The application and related documents are available for review by selecting “Records Open for Public Comment” from the “Features” box on the Applications and Permits for Protected Species home page, https://apps.nmfs.noaa.gov, and then selecting File No. 16239 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Carrie Hubard or Courtney Smith, (301) 427-8401.

SUPPLEMENTARY INFORMATION: The subject amendment to Permit No. 16239 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR parts 222-226).

Permit No. 16239, issued on September 11, 2013 (78 FR 60852), authorizes the permit holder to harass cetacean and pinniped species during vessel and aerial survey activities, including behavioral observations and photo-identification. Cetacean species may also be harassed during underwater photography and collection of sloughed skin and fecal samples. Surveys may be conducted year-round in all U.S. and international waters in the Pacific Ocean (including Alaska, Washington, Oregon, California, Hawaii, Guam, Marianas Islands, and other U.S. territories) and Atlantic Ocean (including the Gulf of Mexico, western North Atlantic, Caribbean Sea, and Sargasso Seas). The permit expires September 30, 2018.

The permit holder is requesting the permit be amended to include authorization for: (1) Increasing takes for some species during aerial and vessel visual surveys to document presence/absence, behavior, and movement of marine mammals before, during, and after Naval training exercise operations, offshore energy installations, oil and gas exploration and production, and pier refurbishment/replacement; (2) collecting biopsy samples to document genetic variation within populations, gender, foraging patterns, and stress levels; and (3) using multiple tag types, including satellite and digital acoustic tags, to document movement and dive patterns, social and population structure, and habitat use. See tables in the permit amendment application for numbers of takes by species, stock and activity. The research would be conducted to collect data on population and genetic variations and habitat use, and to monitor behavioral changes during activities associated with U.S. Navy, renewable energy, oil and gas exploration and production, and pier-based construction.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: August 18, 2015.
Julia Harrison,
Chief, Permits and Conservation Division, Office of Protected Resources, National Marine Fisheries Service.

[FR Doc. 2015-21215 Filed 8-26-15; 8:45 am]

BILLING CODE 3510-22-P